COMMITTEE FOR PURCHASE FROM PEOPLE WHO ARE BLIND OR SEVERELY DISABLED

Procurement List Additions and Deletions

AGENCY: Committee for Purchase From People Who Are Blind or Severely Disabled.

ACTION: Additions to and deletions from Procurement List.

SUMMARY: This action adds to the Procurement List products and services to be furnished by nonprofit agencies employing persons who are blind or have other severe disabilities, and deletes from the Procurement List products previously furnished by such agencies.

DATES: Effective September 26, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On June 4, June 18, and July 2, 2004, the Committee for Purchase From People Who Are Blind or Severely Disabled published notice (69 FR 31588, 34121, and 40350) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Folding Chairs, Metal & Padded

7105-00-269-8463—Plain Metal (Class 1)

7105-00-663-8475—Vinyl Padded (Class 2)

NPA: ASPIRO, Inc., Green Bay, Wisconsin.

Contract Activity: GSA, National Furniture Center, Washington, DC.

Services

Service Type/Location: Data Entry, USDA, Food Safety & Inspection Services, Minneapolis, Minnesota.

NPA: JVS Works, Inc., Minnetonka, Minnesota.

Contract Activity: GSA, Federal Technology Service, Ft. Huachuca, Arizona.

Service Type/Location: Document Destruction—Internal Revenue Service,

NISH, Vienna Virginia (Prime Contractor).

Performance to be allocated to the Nonprofit Agencies identified at the following locations:

1122 Town & Country Commons, Chesterfield, Missouri

1222 Spruce Street, St. Louis, Missouri

2218 N. Highway 67, Florissant, Missouri

3636 S. Geyer Road, Suite 300, St. Louis, Missouri

NPA: Challenge Unlimited, Inc., Alton, Illinois

24200 Tower Place, Peewaukee, Wisconsin

517 E. Wisconsin Avenue, Milwaukee, Wisconsin

6021 Durand Avenue, Suite 600, Racine, Wisconsin

Reuss Federal Plaza, Milwaukee, Wisconsin

NPA: Milwaukee Center for Independence, Inc., Milwaukee, Wisconsin

250 Marquette Avenue, Suite 560 (CID), Minneapolis, Minnesota

250 Marquette Avenue, Suite 275 (TAC), Minneapolis, Minnesota

2001 Killebrew Drive, Bloomington, Minnesota

6040 Earle Brown Drive, Brooklyn Center, Minnesota

St. Paul Headquarters, 316 N. Robert Street, Minneapolis, Minnesota

Appeals Division, 175 E. Fifth Street, Suite 600, St. Paul, Minnesota

NPA: AccessAbility, Inc., Minneapolis, Minnesota

Internal Revenue Service Field Procurement Operation

230 S. Dearborn Street, 14th Floor, Chicago, Illinois

NPA: Opportunity, Inc., Highland Park, Illinois

Contract Activity: IRS—Western Area Procurement Branch—APFW, San Francisco, California.

Deletions

On April 30, 2004, the Committee for Purchase From People Who Are Blind or Severely Disabled published notice (69 FR 23723) of proposed deletions to the Procurement List. After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSN: Bag, Soiled Clothes

8465-00-122-3869

NPA: None currently authorized.

Contract Activity: GSA, Southwest Supply Center, Fort Worth, Texas.

Product/NSN: Bookcase, Wood, Executive

7110-00-973-5127

NPA: None currently authorized

Contract Activity: GSA, National Furniture Center, Washington, DC

Product/NSN: Books and Pamphlets (Program 1995-S)

7690-00-NSH-0088.

NPA: None currently authorized

Contract Activity: Government Printing Office, Washington, DC

Product/NSN: Costumer, Wood, Executive

7195-00-132-6642

7195-01-368-4817

7195-01-368-4818

7195-01-368-4819

7195-01-391-5136

7195-01-459-9149

7195-01-459-9150

7195-01-459-9151

7195-01-459-9152

7195-01-459-9153

7195-01-459-9154

NPA: None currently authorized

Contract Activity: GSA, National Furniture Center, Washington, DC

Product/NSN: Office Furniture—Tables, Wood

7110-00-151-6485

7110-00-177-4901

7110-00-177-4902

NPA: None currently authorized

Contract Activity: GSA, National Furniture Center, Washington, DC

Product/NSN: Office Furniture

7110-00-194-1613—Bookcase

7110-00-281-5689—Costumer

7195-00-242-3503—Coat Rack

NPA: None currently authorized

Contract Activity: GSA, National Furniture Center, Washington, DC

Product/NSN: Stamp, Rubber

7520-00-NSH-0084

7520-00-NSH-0085

7520-00-NSH-0086

NPA: None currently authorized

Contract Activity: Mountain Home Air Force Base, Idaho

Sheryl D. Kennerly,
Director, Information Management.

[FR Doc. 04-19641 Filed 8-26-04; 8:45 am]

BILLING CODE 6353-01-P